DEPARTMENT OF THE INTERIOR

Bureau of Land Management

[LLCAC06000.L13100000.DS0000.LXSIAREV0000.19XL1109AF; MO#4500131458]

Notice of Availability of the Record of Decision for the Bakersfield Field Office Hydraulic Fracturing Supplemental Environmental Impact Statement, California

AGENCY: Bureau of Land Management, Interior.

ACTION: Notice of availability.

SUMMARY: In accordance with the National Environmental Policy Act of 1969, as amended (NEPA), and the Federal Land Policy and Management Act of 1976, as amended, the Bureau of Land Management (BLM) has prepared a Record of Decision (ROD) for the Final Supplemental Environmental Impact Statement (EIS) developed for the 2012 Proposed Resource Management Plan (RMP), and by this Notice is announcing its availability. This supplemental environmental analysis responds to a May 2017, U.S. District Court Order requiring additional environmental analysis of the potential impacts of hydraulic fracturing of oil and gas resources within the planning area. The BLM issues this ROD to re-affirm the portions of the 2014 ROD that were set-aside in a partial remand. Because there are no changes to the 2014 RMP resulting from supplementation of its underlying EIS, with signature of this ROD, that part of the 2014 ROD that was set aside on remand, is now in effect.

DATES: The Acting California State Director signed the ROD on December 12, 2019.

ADDRESSES: Copies of the ROD are available for public inspection during regular business hours at 3801 Pegasus Drive, Bakersfield, CA 93308. Interested persons may also review the ROD at https://go.usa.gov/xE3Nw.

FOR FURTHER INFORMATION CONTACT: Carly Summers, Supervisory Natural Resources Specialist; telephone: 661-391-6000; email: csummers@blm.gov; address: Bureau of Land Management, 3801 Pegasus Drive, Bakersfield, CA 93308. Persons who use a telecommunications device for the deaf (TDD) may call the Federal Relay Service (FRS) at 1-800-877-8339 to contact Ms. Summers during normal business hours. The FRS is available 24 hours a day, 7 days a week, to leave a message or question. You will receive a reply during normal business hours.

SUPPLEMENTARY INFORMATION: The Bakersfield Field Office planning area is located in eastern Fresno, western Kern, Kings, Madera, San Luis Obispo, Santa Barbara, Tulare, and Ventura counties in California and encompasses approximately 1.2 million acres of Federal minerals, which includes roughly 400,000 surface acres of BLM-managed public land.

This supplemental environmental analysis responds to a May 2017, U.S. District Court Order requiring additional environmental analysis of the potential impacts of hydraulic fracturing of oil and gas resources within the planning area. The U.S. District Court Order upheld the range of alternatives analyzed in the 2012 Proposed RMP/Final EIS. The five management alternatives analyzed in the Proposed RMP/Final EIS were:

• The No Action alternative (Alternative A)—continue current management under the existing 1997 Caliente RMP and 1984 Hollister RMP, as amended.

• The Proposed Plan (Alternative B)—balance resource conservation and ecosystem health with the production of commodities and public use of the land.

• Alternative C—emphasize conserving cultural and natural resources, maintaining functioning natural systems, and restoring degraded natural systems.

• Alternative D—same as Alternative C, except that Alternative D would eliminate livestock grazing from BLM-managed lands in the planning area.

• Alternative E—emphasize the production of natural resources, commodities and public use opportunities.

The 2012 Proposed RMP/Final EIS identified public lands as available to fluid mineral leasing; no changes to that designation were made through the Final Supplemental EIS.

Preliminary resource issues were presented for public scoping review and comment in the August 8, 2018, Federal Register Notice of Intent (83 FR 39116). Issues identified by the BLM, Federal, State, and local agencies, and other stakeholders include air and atmospheric values, water quality and quantity, seismicity, special status species, and mineral resources (oil and gas).

The Draft Supplemental EIS began a 45-day public comment period upon publication of the Notice of Availability in the April 26, 2019 Federal Register (84 FR 17885). The BLM held public meetings on May 21, 22, and 23, 2019, in Bakersfield, San Luis Obispo, and Santa Barbara, respectively. Approximately 600 individuals attended the three meetings and approximately 16,000 written comments were received through ePlanning and standard mail. Responses to substantive comments are in Appendix B: Public Comment Summary Report of the Final Supplemental EIS. Public comments resulted in the addition of clarifying text to the final EIS, but did not warrant or suggest further supplementation or change.

The Final Supplemental EIS Notice of Availability published in the Federal Register on November 1, 2019 (84 FR 58739).

The results of this final supplemental analysis regarding the impacts of hydraulic fracturing of oil and gas resources, additive to those identified in the 2012 Final EIS, did not show a notable increase in total impacts. No conflicts were found between the estimated impacts of hydraulic fracturing and the resource or program management goals and objectives stated in the approved RMP. The range of alternatives was upheld by the District Court and has not changed between the approved 2014 RMP and its 2012 Final EIS and the 2019 Final Supplemental EIS. Therefore, no amendment to the 2014 RMP is necessary, and the BLM upholds its previous decision to select the Proposed Plan (Alternative B) for its Resource Management Plan. BLM has fully analyzed the effects of hydraulic fracturing in accordance with the order of the court, and although the 2012 EIS has been supplemented, no change is made to the RMP decisions that were approved in 2014.

The BLM utilized and coordinated the NEPA process to help fulfill the public involvement process under the National Historic Preservation Act (54 U.S.C. 306108), as provided in 36 CFR 800.2(d)(3). The BLM will continue to consult with Indian tribes on a government-to-government basis, in accordance with Executive Order 13175 and other policies. Tribal concerns, including impacts on Indian trust assets and potential impacts to cultural resources, will continue to be given due consideration.

With this ROD, the BLM incorporates the supplemental EIS for the Bakersfield Field Office Resource Management Plan (RMP) into the August 2012 EIS, which supported the Bakersfield Field Office Proposed Resource Management Plan. The BLM issues this ROD to re-affirm the portions of the 2014 ROD that were set-aside in the partial remand. Because there are no changes to the 2014 RMP resulting from supplementation of its underlying EIS, with signature of this ROD, that part of the 2014 ROD that was set aside on remand, is now in effect.

(Authority: 40 CFR 1506.6; 40 CFR 1506.10; 43 CFR 1610.2; 43 CFR 1610.5; 42 U.S.C. 4370m-6(a)(1)).

Danielle Chi,
Deputy State Director, Resources.

[FR Doc. 2019-26679 Filed 12-12-19; 8:45 am]

BILLING CODE 4310-HC-P